DEPARTMENT OF TRANSPORTATION

Federal Transit Administration

Extension of Public Scoping Period for the West Seattle and Ballard Link Extensions, King County, Washington

AGENCY: Federal Transit Administration (FTA), DOT.

ACTION: Notice; extension of public comment period.

SUMMARY: On February 12, 2019 the Federal Transit Administration (FTA) published a notice of intent (NOI) in the Federal Register to prepare an environmental impact statement (EIS) with the Central Puget Sound Regional Transit Authority (Sound Transit) for the West Seattle and Ballard Link Extensions (WSBLE) Project. The public scoping period on the NOI was originally scheduled to end on March 18, 2019. FTA is extending the public scoping period and will accept comments until April 2, 2019.

DATES: Written comments on the scope and alternatives to be considered in EIS, as described in the NOI (84 FR 3541; February 12, 2019), must be submitted no later than April 2, 2019.

ADDRESSES: You may submit written comments on the scope of the EIS to: WSBLE (c/o Lauren Swift) Sound Transit, 401 S Jackson Street, Seattle, WA 98104-2826, or by email to WSBscopingcomments@soundtransit.org.

FOR FURTHER INFORMATION CONTACT: Mark Assam, FTA Environmental Protection Specialist, phone: (206) 220-4465 or Lauren Swift, Sound Transit Central Corridor Environmental Manager, phone: (206) 398-5301.

SUPPLEMENTARY INFORMATION: On February 12, 2019, FTA published a NOI to prepare an EIS in coordination with Sound Transit for the WSBLE Project in the Federal Register (84 FR 3541). The public scoping period on the NOI was originally scheduled to end on March 18, 2019. FTA received requests for additional time to provide comments. In an effort to balance the need to move forward on the EIS process in an efficient manner and the need to encourage thorough public participation in this scoping process, FTA will extend the public comment period to April 2, 2019. This brings the public scoping period to a total of 46 days. Other information contained in the NOI published in the February 12, 2019 Federal Register has not been changed.

Linda M. Gehrke,
Regional Administrator.

[FR Doc. 2019-04278 Filed 3-8-19; 8:45 am]

BILLING CODE P